DEPARTMENT OF ENERGY

Office of Civilian Radioactive Waste Management

Site Recommendation Consideration Hearings and End of Public Comment Period; Yucca Mountain Preliminary Site Suitability Evaluation

AGENCY: Office of Civilian Radioactive Waste Management, Department of Energy.

ACTION: Notice of public hearings and public comment period closure; document availability.

SUMMARY: The Department of Energy (the Department) announces the scheduling of public hearings on the possible recommendation by the Secretary of Energy to the President of the Yucca Mountain Site in Nevada for development as a spent nuclear fuel and high-level nuclear waste geologic repository, pursuant to Section 114(a)(1) of the Nuclear Waste Policy Act of 1982 (NWPA), as amended. The Department also announces the availability of the Yucca Mountain Preliminary Site Suitability Evaluation (PSSE) for the Yucca Mountain site in Nevada and the date for the closure of the public comment period on the Secretary's consideration of a possible site recommendation.

DATES: Public Hearings are scheduled for the following dates, locations and times:

September 5, 2001: Suncoast Hotel and Casino, 9090 Alta Drive, Las Vegas, Nevada, 89144, 5:00 pm—9:00 pm—Poster Session; 6:00 pm—9:00 pm—Hearing.

September 12, 2001: Longstreet Inn and Casino, Highway 373, Armagosa Valley, Nevada 89020; 5:00 pm—9:00 pm—Poster Session; 6:00 pm—9:00 pm—Hearing.

September 13, 2001: Bob Ruud Community Center, 150 Highway North #160, Pahrump, Nevada 89048, 5:00 pm-9:00 pm—Poster Session; 6:00 pm-9:00 pm—Hearing.

The public also may submit written comments on the Secretary's consideration of Yucca Mountain for a potential site recommendation to the President. Written comments will be accepted for consideration if received by September 20, 2001. Comments received after September 20, 2001, will be considered to the extent practicable.

ADDRESSES: Written comments should be addressed to Carol Hanlon, U.S. Department of Energy, Yucca Mountain Site Characterization Office, (M/S #025), P.O. Box 30307, North Las Vegas, Nevada 89036-0307, or provided by electronic mail to YMP_SR@ymp.gov. Written comments should be identified on the outside of the envelope, and on the comments themselves, with the designation: “Possible Site Recommendation for Yucca Mountain.” Comments can also be submitted by facsimile to 1-800-967-0739.

Copies of any written comments, and documents referenced in this notice may be inspected and photocopied in the Department's Freedom of Information Act Reading Room located at the Yucca Mountain Science Center, 4101B Meadows Lane, Las Vegas, Nevada, (702) 295-1312, between the hours of 10:00 a.m. and 6:00 p.m. Tuesday through Friday, and 10:00 a.m. and 4:00 p.m. on Saturday, except for Federal holidays. Documents referenced in this notice may also be found on the Internet at http://www.ymp.gov and at http://www.rw.doe.gov. For more information concerning public participation, please refer to the Opportunity for Public Comment section of this notice.

Copies of the PSSE and other supporting technical documents may be requested by telephone (1-800-967-3477) or over the Internet via the Yucca Mountain Project website using the document ordering form at http://www.ymp.gov.

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION:

I. Background

On May 7, 2001, the Department announced in the Federal Register (66 FR 23013-23016) the initiation of a public comment period on the Secretary's consideration of the Yucca Mountain site for recommendation as a spent nuclear fuel and high-level waste repository. In conjunction with the initiation of the comment period, the Department issued a report, the Yucca Mountain Science and Engineering Report (YMS&ER), summarizing the scientific and technical information compiled by the Department to date outlining the preliminary design and performance attributes of a potential geologic repository at the Yucca Mountain site. This report was provided to inform the public and facilitate public comment and review on the technical and scientific information and analyses forming the basis for the Department's consideration of a possible site recommendation.

With this notice, the Department announces the issuance of another report, the PSSE, that also is intended to inform the public and facilitate public review and comment on a possible site recommendation. The PSSE contains a preliminary evaluation of the suitability of the Yucca Mountain site for development as a geologic repository based on the Department's proposed site suitability regulations, to be codified as 10 CFR part 963. The preliminary evaluation described in the PSSE is based on information contained in the YMS&ER, supplemented by the most recent available technical information.

II. Opportunity for Public Comment

A. Participation in Comment Process

Interested persons are invited to participate in the comment process by submitting written data, views, or comments with respect to the possible recommendation of the Yucca Mountain site. The Department encourages the maximum level of public participation possible in this process. Individuals, coalitions, states or other government entities, and others are urged to submit written comments on technical, policy or other issues related to the possible recommendation of the Yucca Mountain site.

B. Written Comment Procedures

The Department invites the public to comment on a possible recommendation for the Yucca Mountain site. Written comments should be identified on the outside of the envelope, and on the comments themselves, with the designation: “Possible Site Recommendation for Yucca Mountain.” In the event any person wishing to submit written comments cannot provide them directly, alternative arrangements can be made by calling 1-800-967-3477. All comments postmarked by the closing date of the public comment period will be considered by the Department before a decision is made on the potential site recommendation. Comments postmarked after the closing date will be considered to the extent practicable. All comments submitted will be available for examination at the Yucca Mountain Science Center in Las Vegas, Nevada. Pursuant to the provisions of 10 CFR 1004.11, any person submitting information or data that is believed to be confidential, and which may be exempt by law from public disclosure, should submit one complete copy, as well as two copies from which the information considered confidential has been deleted. The Department of Energy will make its own determination of any such claim and treat it accordingly.

C. Public Hearings

At the beginning of this notice, the Department has indicated where and when there will be public hearings for the site consideration process. As required by the NWPA, the Department will hold these hearings in the vicinity of Yucca Mountain to inform and receive comments from those in the vicinity of the site. These hearings will not be trial-type evidentiary hearings that require a lawyer. They will be informal, and the Department intends to use a facilitator in an effort to ensure they are fair and productive.

Issued in Washington, DC on August 16, 2001.
Lake Barrett,
Acting Director, Office of Civilian Radioactive Waste Management.

[FR Doc. 01-21088 Filed 8-20-01; 8:45 am]

BILLING CODE 6450-01-P